DEPARTMENT OF LABOR

Employment and Training Administration

[TA-W-50,339]

Tower Automotive, Inc., Milwaukee, WI; Amended Certification Regarding Eligibility To Apply for Worker Adjustment Assistance

In accordance with section 223 of the Trade Act of 1974 (19 U.S.C. 2273) the Department of Labor issued a Certification of Eligibility to Apply for Worker Adjustment Assistance on January 23, 2003, applicable to workers of Tower Automotive, Inc., Milwaukee, Wisconsin. The notice was published in the Federal Register on February 24, 2003 (68 FR 8623).

The Department reviewed the certification for workers of the subject firm. The workers produce structural component parts and assemblies for light truck bodies.

New findings show that there was a previous certification, TA-W-38,407, issued on January 31, 2001, for workers of Tower Automotive, Inc., Milwaukee, Wisconsin who were engaged in employment related to the production of structural component parts and assemblies for light truck bodies. That certification expired January 31, 2003. To avoid an overlap in worker group coverage, the certification is being amended to change the impact date from December 9, 2001 to February 1, 2003, for workers of the subject firm.

The amended notice applicable to TA-W-50,339 is hereby issued as follows:

All workers of Tower Automotive, Inc., Milwaukee, Wisconsin, who became totally or partially separated from employment on or after February 1, 2003, through January 23, 2005, are eligible to apply for adjustment assistance under section 223 of the Trade Act of 1974.

Signed at Washington, DC this 29th day of April, 2003.
Richard Church,
Certifying Officer, Division of Trade Adjustment Assistance.

[FR Doc. 03-11545 Filed 5-8-03; 8:45 am]

BILLING CODE 4510-30-P